DEPARTMENT OF TRANSPORTATION

Office of the Secretary

Aviation Proceedings, Agreements Filed the Week Ending October 30, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0267.

Date Filed: October 25, 2010.

Parties: Members of the International Air Transport Association.

Subject: Mail Vote 648—Resolution 010e, TC31 North & Central Pacific, Special Passenger Amending Resolution, from USA to South East Asia, (Memo 0525), Intended effective date: 1 November 2010.

Renee V. Wright,
Program Manager, Docket Operations, Federal Register Liaison.

[FR Doc. 2010-31706 Filed 12-16-10; 8:45 am]

BILLING CODE 4910-9X-P